DEPARTMENT OF ENERGY

Federal Energy Regulatory Commission

18 CFR Parts 37, 161, 250, 284, and 358

[Docket No. RM01-10-000]

Standards of Conduct for Transmission Providers; Notice of Proposed Rulemaking

AGENCY: Federal Energy Regulatory Commission, DOE.

ACTION: Notice organizing technical conference.

SUMMARY: In Docket No. RM01-10-000, the Federal Energy Regulatory Commission proposed to promulgate new standards of conduct regulations that apply uniformly to natural gas pipelines and transmitting public utilities (jointly referred to as transmission providers) that are currently subject to the gas standards of conduct, 18 CFR part 161 (2001), and the electric standards of conduct, 18 CFR part 37 (2001), 66 FR 50919 (Oct. 5, 2001). The Commission proposed to adopt one set of standards of conduct to govern the relationships between regulated transmission providers and their energy affiliates, broadening the definition of an affiliate covered by the standards of conduct. The Commission proposed to codify the standards of conduct in a new Subchapter S, Part 358, delete the current standards of conduct at Part 161 and § 37.4, and make conforming changes to other regulations as necessary. On May 21, 2002, the Federal Energy Regulatory Commission staff will hold a public conference to discuss the proposed revisions to the gas and electric standards of conduct. The conference will focus on: the definition of energy affiliate; application of the rules to the bundled sales function for retail native load; the independent functioning requirement; information disclosure rules; the posting of specified information, e.g., discount information.

DATES: The conference will take place on May 21, 2002, starting at 9:30 a.m. Persons wishing to submit further comments following the conclusion of the conference must submit them by June 14, 2002.

ADDRESSES: The conference will be held at the Commission's offices at 888 First Street, NE., Washington, DC in the Commission's meeting room. File written comments on the proposed rulemaking with the Office of the Secretary, Federal Energy Regulatory Commission, 888 First Street, NE., Washington, DC 20426. Comments should reference Docket No. RM01-10-000. Comments may be filed electronically or by paper (an original and 16 copies, with an accompanying computer diskette in the prescribed format requested).

FOR FURTHER INFORMATION CONTACT: Demetra E. Anas, Office of General Counsel, Federal Energy Regulatory Commission, 888 First Street, NE., Washington, DC 20426, (202) 208-0178, email: Demetra.Anas@ferc.gov.

SUPPLEMENTARY INFORMATION:

Notice Organizing Technical Conference

May 8, 2002.

This notice provides additional information concerning the May 21, 2002 technical conference to be held in this docket to discuss the proposed revisions to the gas and electric standards of conduct governing transmission providers and their energy affiliates. See April 25, 2002 Notice of Technical Conference and Staff Analysis of the Major Issues Raised in the Comments. The conference will begin at 9:30 a.m. at the Commission's offices, 888 First Street NE., Washington, DC in the Commission's Meeting Room. All interested persons are invited to attend. Participants must use the First Street entrance to the building because of nearby construction.

The order of the discussion at the conference will follow the organization of the Staff Paper that was attached to the April 25th Notice: (1) The definition of energy affiliate; (2) application of the rules to the bundled sales function for retail native load; (3) the independent functioning requirement; (4) information disclosure rules; and (5) the posting of specified information, e.g., discount information. Each topic will be discussed for approximately one to one and one-half hour.

Those interested in participating in the discussion of particular topics should indicate their interest by May 15, 2002 by calling Demetra Anas at (202) 208-0178 or via e-mail to: demetra.anas@ferc.gov. This is to ensure that adequate seating is available in the Commission Meeting Room for those who want to participate in the discussion. We intend to accommodate as many speakers as time permits to participate in a give-and-take discussion of each of the five topics noted in the prior paragraph, in turn. Observers will be accommodated in the Commission Meeting Room on a space available basis, but there will be seating available in an overflow room which will have a broadcast of the discussion. Each request to participate must include a contact person, telephone number and e-mail address. In addition, each request should identify the specific issues the requestor is interested in discussing.

Attendees who want to propose alternatives to the regulatory text from the April 25, 2002 Staff Paper or to the Commission's Notice of Proposed Rulemaking should come prepared to share specific proposed language. Also, the participation of people familiar with the business operations of the transmission providers and their energy affiliates is particularly invited. Participants are encouraged to offer assessments of the quantitative impacts of the proposed rule and the benefits to be obtained by the proposed rule.

Procedures to file additional comments:

Interested persons may file additional comments on the issues discussed at the conference, or other matters relevant to this proceeding, including alternative proposals by June 14, 2002. Comments should include a one-page single spaced position summary. Comments may be filed either in paper format or electronically. Those filing electronically do not need to make a paper filing. For paper filings, the original and 14 copies of such comments should be submitted to the Office of the Secretary, Federal Energy Regulatory Commission, 888 First Street, NE., Washington, DC, 20426 and should refer to Docket No. RM01-10-000.

Comments filed via the Internet must be prepared in WordPerfect, MS Word, Portable Document Format, or ASCII format. To file the document, access the Commission's website (www.ferc.gov) and clock on “Make an e-filing,” and then follow the instructions for each screen. First-time users will have to establish a user name and password. The Commission will send an automatic acknowledgment to the sender's E-mail address upon receipt of the comments.

User assistance for electronic filing is available at 202-208-0258 or by E-mail to efiling@ferc.gov. Comments should not be submitted to the e-mail address. All comments will be placed in the Commission's public files and will be available for inspection in the Commission's Public Reference Room at 888 First Street, NE., Washington, DC 20426 during regular business hours. Additionally, all comments may be viewed, printed or downloaded remotely via Internet through FERC's Homepage using the RIMS link. User assistance for RIMS is available at 202-208-2222, or by E-mail to rimsmaster@ ferc.gov.

Remote access to the conference:

The Capitol Connection patrons in the Washington, DC area will receive notices regarding the broadcast of the conference. It also will be available, for a fee, live over the Internet, via C-Band Satellite, and via telephone conferencing. Persons interested in receiving the broadcast, or who need further information, should contact David Reininger or Julia Morelli at the Capitol Connection (703-993-3100) as soon as possible or visit the Capitol Connection web site at http://www.capitolconnection.gmu.edu and click on “FERC.”

In addition, National Narrowcast Network's Hearing-On-The-Line service covers all FERC meetings live by telephone so that interested persons can listen at their desks, from their homes, or from any phone, without special equipment. Billing is based on time on-line. Call (202) 966-2211 for further details.

Questions about participating at the conference should be directed to: Demetra Anas, Office of General Counsel, Federal Energy Regulatory Commission, 888 First Street, NE., Washington, DC 20426, 202-208-0178. Demetra.Anas@ferc.gov

Linwood A. Watson, Jr.,
Deputy Secretary.

[FR Doc. 02-11995 Filed 5-16-02; 8:45 am]

BILLING CODE 6717-01-P